ENVIRONMENTAL PROTECTION AGENCY

[FRL-6967-7]

Agency Information Collection Activities: Proposed Collection; Comment Request; Information Collection Request National Pollutant Discharge Elimination System for the Water Quality Guidance for the Great Lakes System

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Information Collection Request National Pollutant Discharge Elimination System Great Lakes Water Quality Guidance (EPA ICR Number 1639.03; OMB Control Number 2040-0180; expiration date September 30, 2001). Before submitting the ICR to OMB for review and approval, EPA is soliciting comments on specific aspects of the proposed information collection as described below.

DATES: Comments must be submitted on or before June 25, 2001.

ADDRESSES: An original and four copies of comments should be submitted to Mark Morris (4301), U.S. EPA, Ariel Rios Building, 1200 Pennsylvania Avenue, NW, Washington, DC 20460. This ICR concerning the Water Quality Guidance for the Great Lakes System is available upon request by contacting Mark Morris (4301), U.S. EPA, Ariel Rios Building, 1200 Pennsylvania Avenue, NW, Washington, DC 20460, (202) 260-0312. The ICR is also available for inspection and copying at U.S. EPA Region 5, 77 West Jackson Blvd., Chicago, IL 60604 by appointment only. Appointments may be made by calling Mery Willis Jackson (telephone 312-886-3717).

FOR FURTHER INFORMATION CONTACT: Mark Morris (4301), U.S. EPA, Ariel Rios Building, 1200 Pennsylvania Avenue, NW, Washington, DC 20460 (202-260-0312).

SUPPLEMENTARY INFORMATION: Affected entities: Entities potentially affected by today's action are those discharging pollutants to waters of the United States in the Great Lakes System. Potentially affected categories and entities include:

Category | Examples of potentially affected entities
Industry | Industries discharging toxic pollutants to waters in the Great Lakes System as defined in 40 CFR 132.2.
Municipalities | Publicly-owned treatment works discharging toxic pollutants to waters of the Great Lakes System as defined in 40 CFR 132.2.

This table is not intended to be exhaustive, but rather provides a guide for readers regarding entities likely to be affected by the final Water Quality Guidance for the Great Lakes System (the Guidance). This table lists the types of entities that EPA is now aware could potentially be affected by this action. Other types of entities not listed in the table could also be affected. To determine whether your facility may be affected by this rule, you should examine the definition of “Great Lakes System” in 40 CFR 132.2 and examine 40 CFR part 132 which describes the purpose of water quality standards and implementation procedures. If you have any questions regarding the applicability of this action to a particular entity, consult the person listed in the preceding FOR FURTHER INFORMATION CONTACT section.

Title: Information Collection Request National Pollutant Discharge Elimination System Great Lakes Water Quality Guidance (OMB Control No. 2040-0180; EPA ICR No.1639.03) expiring September 30, 2001.

Abstract: The primary objective of the Clean Water Act (CWA) is “to restore and maintain the chemical, physical and biological integrity of the nation's waters” (section 101(a)). CWA section 402 establishes the National Pollutant Discharge Elimination System (NPDES) permit program to regulate the discharge of any pollutant or combination of pollutants from point sources into the waters of the United States. CWA section 402(a), as amended, authorizes the EPA Administrator to issue permits for the discharge of pollutants if those discharges meet the following requirements:

• All applicable requirements of CWA sections 301, 302, 306, 307, 308, and 403; and

• Any conditions the Administrator determines are necessary to carry out the provisions and objectives of the CWA.

Section 101 of the Great Lakes Critical Programs Act (CPA) amends section 118 of the CWA and directs EPA to publish water quality guidance for the Great Lakes System. Provisions of the Guidance are codified in 40 CFR part 132. The Guidance establishes minimum water quality criteria, implementation procedures, and antidegradation provisions for the Great Lakes System.

EPA and delegated NPDES permitting authorities may need point source dischargers in the Great Lakes Basin to collect and submit information for the following reasons:

• To implement methodologies for setting numerical water quality criteria and values promulgated by States and Tribes for pollutants in the Great Lakes. The Great Lakes States will use the methodologies consistent with the final Guidance when revising existing or promulgating new water quality criteria.

• To evaluate requests for permit changes using antidegradation policies and procedures consistent with the final Guidance.

• To further the pollution prevention policy that focuses on the virtual elimination of toxic discharges into the Great Lakes System.

• To translate provisions consistent with the elements of the final Guidance into controls for point sources of pollutants.

• To identify the facilities that require additional permit conditions (i.e., those that are discharging pollutants at levels of concern into the Great Lakes System).

• To identify new pollutants in existing discharges.

• To evaluate water quality in the Great Lakes.

• To determine violations of State/Tribal provisions consistent with the Guidance.

Although the applicants collect and submit many types of information, this information can be broadly categorized as identification details (e.g., name, location, and facility description) and as information related to pollutant discharges into the Great Lakes.

Permitting authorities currently require dischargers to provide information such as the name, location, and description of facilities to identify the facilities that require permits. EPA and authorized NPDES States store much of this basic information in the Permit Compliance System (PCS) database. PCS provides EPA with a nationwide inventory of NPDES permit holders. EPA Headquarters uses the information contained in the PCS to develop reports on permit issuance, backlogs, and compliance rates. The Agency also uses the information to respond to public and Congressional inquiries, develop and guide its policies, formulate its budgets, assist States in acquiring authority for permitting programs, and manage its programs to ensure national consistency in permitting.

NPDES permit applications and requests for supplemental information currently require information about wastewater treatment systems, pollutants, discharge rates and volumes, whole effluent toxicity testing and other data. Additional information collection requirements that may be necessary to implement State, Tribal, or EPA promulgated provisions consistent with the final Guidance include:

• Monitoring (pollutant-specific and whole effluent toxicity or WET);

• Pollutant minimization programs;

• Bioassays to support the development of water quality criteria;

• Antidegradation policy/demonstrations; and

• Regulatory relief options (e.g., variances from water quality criteria).

This information may be used to ensure compliance with provisions consistent with the Guidance and re-evaluate existing permit conditions and monitoring requirements. Data on discharges is entered into STORET and PCS, EPA's databases for ambient water quality data and NPDES permits, respectively. Results of water quality criteria testing will be entered into an EPA Information Clearinghouse database.

Permit applications may contain confidential business information. If this is the case, the respondent may request that such information be treated as confidential. All confidential data will be handled in accordance with 40 CFR 122.7, 40 CFR part 2, and EPA's Security Manual part III, chapter 9, dated August 9, 1976. However, CWA section 308(b) specifically states that effluent data may not be treated as confidential. No questions of a sensitive nature are associated with this information collection.

An agency may not conduct or sponsor, and a person is not required to respond to, a collection of information unless it displays a currently valid OMB control number. The OMB control numbers for EPA's regulations are listed in 40 CFR part 9 and 48 CFR chapter 15.

The EPA would like to solicit comments to:

(i) evaluate whether the continued collection of information is necessary for the proper performance of the functions of the agency, including whether the information will have practical utility;

(ii) evaluate the accuracy of the agency's estimate of the burden of the continued collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: This ICR provides an estimate of the burden and costs associated with implementation of the final Great Lakes Water Quality Guidance. The total annual burden to all respondents is estimated to be 43,395 hours with an associated cost of $5,011,802. The total annual burden includes 5,886 hours that will be incurred by State governments for a cost of $206,742. It also includes 37,509 hours that will be incurred by the regulated community (including Publicly Owned Treatment Works and industrial facilities) at a cost of $2,028,652 in labor and $2,776,407 in operations and maintenance costs (contractor costs).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 11, 2001.
Geoffrey H. Grubbs,
Director, Office of Science and Technology.

[FR Doc. 01-10119 Filed 4-23-01; 8:45 am]

BILLING CODE 6560-50-P